DEPARTMENT OF AGRICULTURE

Forest Service

Angeles National Forest, CA, Littlerock Reservoir Sediment Removal Project

AGENCY: Forest Service, USDA.

ACTION: Notice of intent to prepare an environmental impact statement.

SUMMARY: Notice is hereby given that the USDA, Forest Service, Angeles National Forest (ANF) and the Palmdale Water District (District) will prepare a joint Environmental Impact Statement (EIS) and Environmental Impact Report (EIR), referred to as an EIR/EIS, that will evaluate the proposed project and alternatives to the proposed project. As the project proponent, the District proposes to excavate sediment from the Littlerock Reservoir and construct a grade control structure (proposed project) located on Littlerock Creek, in Los Angeles County, California. The proposed grade control structure would be located at, or just downstream of, River Station 4,235 (also know as Rocky Point). the proposed project would:

• Remove excess Reservoir sediment that has accumulated over time

• Restore the water storage and flood control capacity of the Reservoir; and

• Prevent sediment loss and headcutting of the stream channel upstream of Rocky Point to prevent the incidental “take” of arroyo toad (Bufo californicus), a federally endangered species.

The proposed project would entail the initial removal of between 270,000 and 540,000 cubic yards of sediment from Littlerock Reservoir from below Rocky Point to just upstream of Littlerock Dam. Thereafter, the District would annually remove approximately 54,000 cubic yards of sediment to balance sediment deposition and maintain water storage capacity in the Reservoir. Sediment would be mechanically removed from the Reservoir by the use of heavy equipment. The ANF and the District invite written comments on the scope of this proposed project. In addition, the agencies give notice of this analysis so that interested and affected individuals are aware of how they may participate and contribute to the final decision.

DATES: Comments concerning the scope of the analysis must be received by July 30, 2005. A public information and scoping meeting will be held July 13, 2005. The draft EIR/EIS is expected December 2005 and the Final EIR/EIS is expected March 2006.

ADDRESSES: Send written comments to Mr. Matt Knudson, Engineering Supervisor, Palmdale Water District, 2029 East Avenue Q, Palmdale, CA 93550, mknudson@palmdalewater.org, (661) 947-4111, ext. 118.

For further information, mail correspondence to Mr. Rich Robertson, USDA Forest Service, Angeles National Forest, Santa Clara Mojave Rivers Ranger District, 30800 Bouquet Canyon Road, Saugus, CA 91390, rrobertson01@fs.fed.us, (661) 296-9710, ext. 223. A public information and scoping meeting is scheduled at the following time and location: Palmdale Water District, Board Room, 2029 East Avenue Q, Palmdale, CA 93550, July 13, 2005, 7 p.m.

All project-related documents are available for review at the Palmdale Water District address stated above.

FOR FURTHER INFORMATION CONTACT: For additional information related to the proposed on National Forest System land, contact Mr. Rich Robertson, U.S. Forest Service, Angeles National Forest, Santa Clara Mojave Rivers Ranger District, (see address above). For additional information related to the project on non-National Forest System land, contact Mr. Matt Knudson, Engineering Supervisor, Palmdale Water District, (see address above).

SUPPLEMENTARY INFORMATION:

Purpose and Need for Action

The underlying need of the project is to restore the water storage and flood control capacity of the Littlerock Reservoir. The Littlerock Dam and Reservoir are located on Littlerock Creek below the confluence of Santiago Canyon on National Forest System land (managed by the Angeles National Forest). The District operates the Littlerock Reservoir as a local surface water impoundment, and water is conveyed from the Reservoir to a water treatment facility located at Palmdale Lake. Inflow into the Reservoir is seasonal and varies widely depending on stream flows and snowmelt within the watershed. The Littlerock Reservoir was constructed in 1924 with an initial design capacity of 4,300 acre-feet. This capacity has been substantially reduced over time by the deposition of sediment behind the Dam. Preliminary calculations conducted by the District indicated that the Reservoir capacity is further reduced at a rate of approximately 30 to 40 acre-feet per year.

Proposed Action

The Angeles National Forest Supervisor proposes to authorize and issue a special use permit to the District to excavate sediment from the Littlerock Reservoir and construct a grade control structure at, or just downstream of, River Station, 4,235, also known as Rocky Point. The proposed project would entail the excavation of approximately between 270,000 and 540,000 cubic yards of material from the Reservoir, followed by excavation of approximately 54,000 cubic yards annually. Initial excavation would commence just upstream of the Dam and extend to River Station 3,037. The grade control structure, which would be constructed at or just downstream of River Station 4,235 (the Rocky Point Area), would be constructed of soil cement or concrete and span approximately 250 feet of the channel. The structure would be buried, with the top at, or slightly below, the existing channel surface. Maximum depth of the structure would be approximately 70 feet. Construction of the structure would result in a temporary disturbance to a section of the channel and adjacent bank approximately 300 feet wide in width and 500 feet wide in the direction parallel to flow.

The proposed project involves lands managed by the Santa Clara/Mojave Rivers Ranger District, Angeles National Forest within Township 5 North, Range 11 West, and Section 34.

Possible Alternatives

For the purpose of this analysis, the ANF and the District have identified preliminary action alternatives for consideration in the scoping process. The alternatives currently under consideration are:

• No Project/No Action Alternative: Under the No Action Alternative, sediment removal would not occur and sediment would continue to accumulate upstream of Littlerock Dam. In addition, no grade control structure would be built.

• Alternative 1—Initial excavation of approximately 270,000 cubic yards of material from the Reservoir, followed by yearly excavation of approximately 54,000 cubic yards. Initial excavation to commence just upstream of the Dam and extend to River Station 1,390: Under this alternative, the District would excavate a trapezoidal section of the Reservoir with an approximate 80-foot bottom width and 5:1 side slopes. All excavation would occur in Reach 1 and maximum excavation would be approximately 43 feet in depth.

• Alternative 2—Initial excavation of approximately 270,000 cubic yards of material from the Reservoir, followed by yearly excavation of approximately 54,000 cubic yards. Initial excavation to commence just upstream of the Dam and extend to River Station 4,235: Under this alternative, the District would excavate a trapezoidal section of the Reservoir with an approximate 200-foot bottom width and 5:1 side slopes. All excavation would occur in Reach 1 and 2, and maximum excavation would occur near River Station 2,210 and would be approximately 10 feet in depth.

• Alternative 3—Initial excavation of approximately 540,000 cubic yards of material from the Reservoir, followed by excavation of approximately 270,000 cubic yards every five years. Initial excavation to commence just upstream of the Dam and extend to River Station 3,037: Under this alternative, the District would excavate a trapezoidal section of the Reservoir with an approximate 80-foot bottom width and 5:1 side slopes. All excavation would occur in Reach 1 and 2, and maximum excavation would be approximately 43 feet in depth.

• Alternative 4—Initial excavation of approximately 540,000 cubic yards of material from the Reservoir, followed by excavation of approximately 270,000 cubic yards every five years. Initial excavation to commence just upstream of the Dam and extend to River Station 4,235: Under this alternative, excavation depths would be 20 feet, and would occur in Reach 1 and 2. The maximum top width excavation would begin approximately 370 feet from the dam and would remain consistent to River Station 2,815, at which point the top width would taper to zero at Station 4,235.

Lead and Cooperating Agencies

The Forest Service is the lead agency under the National Environmental Policy Act (NEPA) in accordance with 40 CFR 1501.5(b). Palmdale Water District is the lead agency under the California Environmental Quality Act (CEQA) in accordance with California Code of Regulations, Title 14, Chapter 3, Article 4, § 15050.

Responsible Official

The responsible official for the preparation of the EIR/EIS is Jody Noiron, Forest Supervisor, Angeles National Forest, 701 N. Santa Anita Avenue, Arcadia, CA 91006.

Nature of Decision To Be Made

The Angeles National Forest Supervisor will decide whether to permit the proposed sediment removal from behind Littlerock Dam and construction of the grade control structure within National Forest System lands. The authorization will include removal of sediment from National Forest System lands needed to restore the Littlerock Reservoir's capacity, and construction of a grade control structure to maintain the Reservoir capacity. If this alternative is approved, the Forest Supervisor will also decide what mitigation measures and monitoring will be required. The Forest Supervisor will only make a decision regarding impacts on National Forest System lands.

Scoping Process

Public participation will be especially important at several stages during the analysis. The purpose of scoping is to help ensure that a comprehensive and focused EIR/EIS will be prepared that provides a firm basis for the decision-making process. Members of the public, affected Federal, State, and local agencies, interested groups, and other interested parties may participate in the scoping process for this project by providing written and verbal comments or recommendations concerning the issues to be analyzed in the EIR/EIS. Comments can be given verbally by attending the scheduled scoping meeting at: Palmdale Water District, July 13, 2005, 7 p.m., 2029 East Avenue Q, Palmdale, CA 93550, (661) 947-4111.

Attendees requiring language interpretation services at the Scoping Meeting must call (818) 597-3407, ext. 338 by July 6, 2005. The meeting location is wheelchair accessible.

Preliminary Issues

The EIR/EIS will present the analysis of the environmental impacts of the proposed project and comparative environmental effects of the alternatives, and will identify mitigation measures for potentially significant impacts. The EIR/EIS will address all issue areas for which potential significant impacts are anticipated. These issue areas include: Air quality; biological resources; cultural resources; geology and soils; hazardous materials; land use and public recreation; noise; socioeconomics and environmental justice; traffic; utilities and service system; visual resources; and water resources.

Permits or Licenses Required

The Regional Director of Natural Resource Management of the Forest Service would issue a Special Use Permit for construction of the grade control structure and maintenance of the Reservoir capacity through sediment removal. Additional permits that may be required for the proposed project could include: A Permit to Operate issued by the Antelope Valley air Quality Management District, a National Pollutant Discharge Elimination system General Construction Permit issued by California's Regional Water quality Control Board, a Section 404 Permit (per Section 404 of the Clean Water Act) issued by the U.S. Army Corps of Engineers, and a Streambed Alteration Agreement (per Section 1601 of the California Fish and Game Code) issued by the California Department of fish and Game.

Comment Requested

This notice of intent initiates the scoping process which guides the development of the EIR/EIS. The Forest Service is seeking public and agency comment on the proposed project to identify major issues to be analyzed in depth and assistance in identifying potential alternatives to be evaluated. Comments received on this notice, including the names and addresses of those who comment, will be considered as part of the public record on this proposed project, and will be available for public inspection. Comments submitted anonymously will be accepted and considered; however, those who submit anonymous comments will not have standing to appeal the subsequent decision under 36 CFR Part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality. Where the request is denied, the agency will return the submission and notify the requester that the comments may be resubmitted, without names and addresses, within a specified number of days.

Early Notice of Importance of Public Participation in Subsequent Environmental Review: A Draft EIR/EIS will be prepared for comment. The comment period on the draft EIR/EIS will be 45 days from the date the Environmental Protection Agency publishes the notice of availability in the Federal Register.

The Forest Service believes, at this early stage, it is important to give reviewers notice of several court rulings related to public participation in the environmental review process. First, reviewers of the Draft EIR/EIS must structure their participation in the environmental review of the proposal so that it is meaningful and alerts an agency to the reviewer's position and contentions. Vermont Yankee Nuclear Power Corp. v. NRDC, 435 U.S. 519, 553 (1978). Also, environmental objections that could be raised at the Draft EIR/EIS stage but that are not raised until after completion of the Final EIR/EIS may be waived or dismissed by the courts. City of Angoon v. Hodel, 803 F.2d 1016, 1022 (9th Cir. 1986) and Wisconsin Heritages, Inc. v Harris, 490 F. Supp. 1334, 1338 (E.D. Wis. 1980). Because of these court rulings, it is very important that those interested in this proposed action participate by the close of the 45-day EIR/EIS comment period so that substantive comments and objections are made available to the Forest Service at a time when it can meaningfully consider them and respond to them in the Final EIR/EIS.

To assist the Forest Service in identifying and considering issues and concerns on the proposed action, comments on the Draft EIR/EIS should be as specific as possible. It is also helpful if comments refer to specific pages or chapters of the draft statement. Comments may also address the adequacy of the Draft EIR/EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: June 28, 2005.
Susan Swinson,
Acting Forest Supervisor.

[FR Doc. 05-13243 Filed 7-5-05; 8:45 am]

BILLING CODE 3410-11-M